DEPARTMENT OF STATE

[Public Notice 5203]

In the Matter of the Designation of the Moroccan Islamic Combatant Group, aka Groupe Islamique Combattant Marocain (GICM), as a Foreign Terrorist Organization Pursuant to Section 219 of the Immigration and Nationality Act

Based upon a review of the Administrative Record assembled in this matter, and in consultation with the Attorney General and the Secretary of the Treasury, the Secretary of State has concluded that there is a sufficient factual basis to find that the relevant circumstances described in section 219 of the Immigration and Nationality Act, as amended (8 U.S.C. 1189, hereinafter “INA”), exist with respect to the Moroccan Islamic Combatant Group, aka Groupe Islamique Combattant Marocain (GICM).

Therefore, effective upon date of publication in the Federal Register, the Secretary of State hereby designates that organization as a foreign terrorist organization pursuant to section 219(a) of the INA.

Dated: October 3, 2005.
Henry A. Crumpton,
Coordinator for Counterterrorism, Department of State.

[FR Doc. 05-20341 Filed 10-7-05; 5:00 pm]

BILLING CODE 4710-10-P